DEPARTMENT OF HOMELAND SECURITY

Federal Emergency Management Agency

[Docket ID FEMA-2017-0002]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of February 16, 2018 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the date indicated above.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in flood prone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: September 25, 2017.
Roy E. Wright,
Deputy Associate Administrator for Insurance and Mitigation, Department of Homeland Security, Federal Emergency Management Agency.

Community | Community map repository address
Appanoose County, Iowa and Incorporated Areas
Docket No.: FEMA-B-1657
City of Centerville | City Hall, 312 East Maple Street, Centerville, IA 52544.
City of Cincinnati | City Hall, 101 Alpine Street, Cincinnati, IA 52549.
City of Moravia | Municipal Building, 116 South William Street, Moravia, IA 52571.
City of Mystic | City Hall, 304 West Main Street, Mystic, IA 52574.
City of Plano | City Hall, 311 3rd Street, Plano, IA 52581.
City of Rathbun | City Hall, 411 Main Street, Rathbun, IA 52544.
Town of Unionville | Town Hall, 109 West Union Street, Unionville, IA 52594.
Unincorporated Areas of Appanoose County | Appanoose County Board of Supervisors Office, 201 North 12th Street, Centerville, IA 52544.
Clarke County, Iowa and Incorporated Areas
Docket No.: FEMA-B-1657
City of Osceola | City Hall, 115 North Fillmore Street, Osceola, IA 50213.
City of Woodburn | City Hall, 607 Sigler Street, Woodburn, IA 50275.
Unincorporated Areas of Clarke County | Clarke County Courthouse, 100 South Main Street, Osceola, IA 50213.
Decatur County, Iowa and Incorporated Areas
Docket No.: FEMA-B-1657
City of Davis City | City Hall, Community Center, North Bridge Street, Davis City, IA 50065.
City of Grand River | City Hall, 126 Broadway Street, Grand River, IA 50108.
City of Lamoni | City Hall, 190 South Chestnut Street, Lamoni, IA 50140.
City of Leon | City Hall, 104 West 1st Street, Leon, IA 50144.
Unincorporated Areas of Decatur County | Decatur County Engineer's Office, 1306 South Main Street, Leon, IA 50144.
Lucas County, Iowa and Incorporated Areas
Docket No.: FEMA-B-1657
City of Chariton | City Hall, 115 South Main Street, Chariton, IA 50049.
City of Lucas | Community Center, 111 East Front Street, Lucas, IA 50151.
City of Russell | City Hall, 115 South Maple Street, Russell, IA 50238.
Unincorporated Areas of Lucas County | Lucas County Secondary Roads Department, 916 Braden Avenue, Chariton, IA 50049.
Marion County, Iowa and Incorporated Areas
Docket No.: FEMA-B-1657
City of Bussey | City Hall, 313 5th Street, Bussey, IA 50044.
City of Hamilton | City Hall, 407 East Street, Hamilton, IA 50116.
City of Harvey | City Hall, 402 West Street, Harvey, IA 50119.
City of Knoxville | City Hall, 305 South 3rd Street, Knoxville, IA 50138.
City of Marysville | Marysville City Hall, 311 Cedar Street, Hamilton, IA 50116.
City of Melcher-Dallas | City Hall, 305 D Main East Street, Melcher-Dallas, IA 50062.
City of Pella | City Hall, 825 Broadway Street, Pella, IA 50219.
City of Pleasantville | City Hall, 108 West Jackson Street, Pleasantville, IA 50225.
City of Swan | City Hall, 104 Church Street, Swan, IA 50252.
Unincorporated Areas of Marion County | Marion County Engineer's Office, 402 Willetts Drive, Knoxville, IA 50138.
Monroe County, Iowa and Incorporated Areas
Docket No.: FEMA-B-1657
City of Melrose | City Hall, 110 Kells Avenue, Melrose, IA 52569.
Unincorporated Areas of Monroe County | Monroe County Courthouse, 10 Benton Avenue East, Albia, IA 52531.
Wayne County, Iowa and Incorporated Areas
Docket No.: FEMA-B-1657
City of Corydon | City Hall, 101 West Jackson Street, Corydon, IA 50060. | City of Seymour | City Hall, 109 North 5th Street, Seymour, IA 52590. | Unincorporated Areas of Wayne County | Wayne County Courthouse, 100 North Lafayette Street, Corydon, IA 50060.

[FR Doc. 2017-22026 Filed 10-11-17; 8:45 am]

BILLING CODE 9110-12-P